DEPARTMENT OF THE INTERIOR

National Park Service

[NPS-WASO-NAGPRA-NPS0030663; PPWOCRADN0-PCU00RP14.R50000]

Notice of Inventory Completion: Mount Holyoke College, South Hadley, MA

AGENCY: National Park Service, Interior.

ACTION: Notice.

SUMMARY: Mount Holyoke College has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to Mount Holyoke College. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Mount Holyoke College at the address in this notice by September 21, 2020.

ADDRESSES: Aaron F. Miller, Mount Holyoke College, 50 College Street, South Hadley, MA 01075-1499, telephone (413) 538-3394, email afmiller@mtholyoke.edu.

SUPPLEMENTARY INFORMATION: Notice is here given in accordance with the Native American Graves Protection and Repatriation Act (NAGPRA), 25 U.S.C. 3003, of the completion of an inventory of human remains under the control of Mount Holyoke College, South Hadley, MA. The human remains were removed from an unidentified location in the vicinity of Holyoke, Hampden County, MA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

From 2015 to 2020, consultation on these human remains was carried out between representatives of Mount Holyoke College (Sonya Stephens, President of Mount Holyoke College, Lenore Reilly, Senior Advisor to the President, and Aaron Miller, Associate Curator of Visual and Material Culture and NAGPRA Coordinator at the Mount Holyoke College Art Museum) and representatives of the Stockbridge Munsee Community, Wisconsin; Wampanoag Tribe of Gay Head (Aquinnah); and the following non-federally recognized Indian groups: the Abenaki Nation of New Hampshire; Cowasuck Band of the Pennacook-Abenaki People; Elnu Abenaki Tribe; and the Webster/Dudley Band of the Chaubunagungamaug Nipmuck Indians (hereafter referred to as “The Consulted Tribes and Groups”).

History and Description of the Remains

Sometime prior to 1918, human remains representing, at minimum, one individual were removed from an unidentified location in the vicinity of Holyoke, Hampden County, MA. On January 10, 1918, Alice E. Hunt and George E. Hunt of Holyoke, MA, donated the human remains to Mount Holyoke College. A letter from the Hunts to Professor Turner mentions the skeleton “of a squaw aged 35 years.” A 1948 article in the Mount Holyoke News referenced the human remains as being “an Indian Squaw about 150 years old” and given by “a family of doctors in Holyoke who had had her in the family for generations.” In 2006, an osteologist examined the human remains and concluded that they belong to a female 20-23 years old, and are of probable Native American ancestry. No known individual was identified. No associated funerary objects are present.

In Holyoke and the surrounding area, a great deal of archeological excavation took place in the late 19th and early 20th centuries, during which multiple graves were exhumed. Based on historical and oral traditional information, the area of Holyoke was occupied by the Stockbridge Munsee Community, Wisconsin.

Determinations Made by Mount Holyoke College

Officials of Mount Holyoke College have determined that:

• Pursuant to 25 U.S.C. 3001(9), the human remains described in this notice represent the physical remains of one individual of Native American ancestry.

• Pursuant to 25 U.S.C. 3001(2), there is a relationship of shared group identity that can be reasonably traced between the Native American human remains and the Stockbridge Munsee Community, Wisconsin.

Additional Requestors and Disposition

Lineal descendants or representatives of any Indian Tribe or Native Hawaiian organization not identified in this notice that wish to request transfer of control of these human remains should submit a written request with information in support of the request to Aaron F. Miller, Mount Holyoke College, 50 College Street, South Hadley, MA 01075-1499, telephone (413) 538-3394, email afmiller@mtholyoke.edu, by September 21, 2020. After that date, if no additional requestors have come forward, transfer of control of the human remains to the Stockbridge Munsee Community, Wisconsin may proceed.

Mount Holyoke College is responsible for notifying The Consulted Tribes and Groups that this notice has been published.

Dated: July 21, 2020.
Melanie O'Brien,
Manager, National NAGPRA Program.

[FR Doc. 2020-18229 Filed 8-19-20; 8:45 am]

BILLING CODE 4312-52-P